DEPARTMENT OF ENERGY

Notice of Intent To Prepare an Environmental Impact Statement for the Project Cypress Direct Air Capture (DAC) Hub; Notice of Potential Floodplain and Wetland Involvement, DOE/EIS-0567

AGENCY: Office of Clean Energy Demonstrations, U.S. Department of Energy.

ACTION: Notice of intent to prepare an environmental impact statement, notice of scoping meetings, request for comments and notice of potential floodplain and wetland involvement.

SUMMARY: The U.S. Department of Energy (DOE) announces its intent to prepare an environmental impact statement (EIS) pursuant to the National Environmental Policy Act (NEPA), the Council on Environmental Quality (CEQ) NEPA regulations, and the DOE NEPA implementing procedures, to assess the potential environmental impacts for the proposed action of providing financial assistance to Battelle Memorial Institute (Battelle) to facilitate the design, construction, operation, and maintenance of a portion of the Project Cypress Direct Air Capture Hub (Project Cypress). Project Cypress would demonstrate the processing, delivery, secure geologic storage, and/or conversion of, carbon dioxide (CO2) captured from the atmosphere.

DATES: The public scoping period for the EIS starts with the publication of this NOI and ends on December 16, 2024. DOE will hold two in-person public scoping meetings at the following dates and times (eastern time):

• Wednesday, November 20, 2024, 5 p.m.-8 p.m., Caddo-Bossier Port, 6000 Doug Attaway Blvd., Shreveport, LA 71115.

• Thursday, November 21, 2024, 5 p.m.-8 p.m., Ward 7 Recreational Center, 1615 Horridge St, Vinton, LA 70668.

All meetings are open to the public and free to attend. Details on how to participate in the public scoping meetings are available on the DOE's web page for this EIS: https://www.energy.gov/nepa/doeeis-0567-project-cypress-regional-direct-air-capture-dac-hub-calcasieu-parish-and-caddo. In defining the scope of the EIS, DOE will consider all scoping comments received or postmarked by December 16, 2024. Comments received or postmarked after the scoping period end date will be considered to the extent practicable.

ADDRESSES: Oral or written comments may be provided at the public scoping meetings. Written comments can be submitted in any of the following ways:

• Mail or Hand Delivery Service: Send comments in an envelope labeled “DOE/EIS-0567” and addressed to Robyn Susemihl, Burns & McDonnell, 4004 Summit Blvd. NE, Suite 1200, Atlanta, GA 30319; or

• Through the www.regulations.gov web portal: Navigate to www.regulations.gov and search for Docket No. DOE-HQ-2024-0080 and follow the instructions for submitting comments.

FOR FURTHER INFORMATION CONTACT: Cassandra Forsyth, NEPA Document Manager, Office of Clean Energy Demonstration Projects, U.S. Department of Energy, U.S. Department of Energy, 1000 Independence Ave SW, Washington, DC 20585, email: ocedprojectcypresseis@hq.doe.gov or telephone: 240-246-4998.

SUPPLEMENTARY INFORMATION:

Background

The Infrastructure and Investment in Jobs Act, commonly known as the Bipartisan Infrastructure Law (BIL), established the Regional Direct Air Capture Hubs (DAC Hubs) program to accelerate commercialization of, and demonstrate the processing, delivery, secure geologic storage, and/or conversion of, carbon dioxide (CO2) captured from the atmosphere. DAC Hub infrastructure can provide economic value and environmental benefits for diverse applications across multiple sectors. However, if the nation is to achieve widespread DAC commercialization and realize these benefits, key challenges to the development and deployment of DAC must be overcome. These challenges include cost, durability, reliability, and performance, as well as the lack of existing DAC infrastructure capturing at least 50 kilotonnes per annum (KTA) carbon dioxide (CO2) or a DAC Hub capacity build-out plan to eventually reach the goal of at least 1,000 KTA CO2. Non-technical barriers also need to be addressed, such as fostering best practices for safety, and developing a robust supply chain and workforce. Accordingly, there is a need to reduce the cost of DAC infrastructure through technology development to assure competitiveness and to reduce deployment timelines and uncertainties limiting U.S. DAC Hub infrastructure project development.

DOE will prepare an environmental impact statement (DOE/EIS-0567) to evaluate the potential impacts to the human environment associated with the proposed Project Cypress. The purpose of this notice of intent (NOI) is to invite public participation in the NEPA process and to encourage public input on the scope of analysis and alternatives that should be considered in the EIS.

Portions of Project Cypress may affect areas designated as floodplains or wetlands. This NOI, therefore, also serves as notice of a proposed floodplain or wetland action in accordance with DOE's floodplain and wetland environmental review requirements (10 CFR part 1022). The Project Cypress EIS will include a floodplain and wetland assessment.

Purpose and Need for the Proposed Action

The purpose and need for agency action is to comply with the DOE's statutory mandate in BIL to catalyze investment in the development of DAC Hub technology that demonstrates accelerated commercialization of, and demonstrates the processing, delivery, geologic storage, and conversion of, CO2 captured from the atmosphere. The proposed action would fulfill DOE's goals of accelerating the deployment of these technologies and enabling infrastructure to attract greater investments from the private sector and promote substantial U.S. manufacturing of numerous DAC Hub related technologies.

DOE's purpose is to fund DAC Hub projects that meet the criteria for a regional DAC Hub, which state that each DAC Hub selected:

• Will facilitate the deployment of DAC projects.

• Has the potential to capture and sequester (or utilize) at least 1,000,000 metric tons of CO2 from the atmosphere annually from a single unit or multiple interconnected units.

• Demonstrates the capture, processing, delivery, and sequestration or end-use of captured carbon.

• Could be developed into a regional or interregional carbon network to facilitate sequestration or carbon utilization.

DOE competitively selected Battelle under DE-FOA-0002735 to demonstrate the Regional DAC Hub technology with Project Cypress.

The need for agency action is to respond to Battelle's request for financial assistance through the cost-shared partnership to design, construct, and operate Project Cypress with the utilization of more than one DAC technology developed in different portions of western Louisiana.

Project Cypress would provide a scalable solution for the capture of CO2 directly from the air for the permanent removal of CO2 to combat climate change. Project Cypress is proposing to construct state-of-the-art facilities that would accomplish carbon dioxide removal from ambient air.

Proposed Action and Preliminary Alternatives

Proposed Action

DOE's Proposed Action is to authorize the expenditure of Federal funds to design, construct, operate, and maintain a Regional DAC Hub in western Louisiana. The proposed action would fund portions of Project Cypress, including the engineering, design, construction, and operation of certain DAC facilities in Calcasieu Parish (Ward 7), situated in southwest Louisiana (LA), and certain DAC facilities in Caddo Parish (Ward 4), located in northwest LA. The proposed Project Cypress would capture and sequester CO2 through the utilization of contrasting DAC technologies developed independently by Climeworks Corporation (Climeworks) and Heirloom Carbon Technologies (Heirloom), the subrecipients of grant awardee, Battelle:

• Cypress Southwest would consist of an approximately 300-KTA Climeworks DAC facility (Stage 1) and an approximately 1000-KTA Climeworks DAC facility (Stage 2) located in Calcasieu Parish, LA.

• Cypress Northwest would consist of an approximately 100-KTA Heirloom DAC facility located in Caddo Parish, LA.

No Action Alternative

As required by NEPA, DOE will consider a no action alternative where DOE would not authorize the expenditure of Federal funds for development of Project Cypress. The no action alternative provides a benchmark for comparison with environmental effects of the other alternatives.

Preliminary Action Alternatives

The EIS may also evaluate other reasonable alternatives that are technically and economically feasible and meet the purpose and need for the proposed action. Other reasonable alternatives that may be evaluated in the EIS include: (1) providing funding for Cypress Southwest only (Climeworks DAC facility in Calcasieu Parish, LA); and (2) providing funding for Cypress Northwest only (Heirloom DAC facility in Caddo Parish, LA).

Summary of Potential Impacts

DOE's analysis and discussion in the EIS will focus on potentially significant environmental impacts. Accordingly, in the EIS, DOE anticipates evaluating potential impacts related to: (1) land use, (2) atmospheric conditions and air quality, (3) hydrologic conditions and water quality, (4) geology and soils, (5) vegetation and wildlife, (6) socioeconomic conditions, (7) environmental justice, (8) cultural resources, (9) visual resources, (10) health and safety, and (11) cumulative impacts. This list is not intended to be all-inclusive or to imply a predetermination of potential impacts. DOE invites interested stakeholders to suggest specific issues, including possible mitigation measures, within these general categories or others, to be considered in the EIS.

Anticipated Permits and Authorizations

A decision by DOE to authorize expenditure of Federal funds would not directly authorize construction or operation of Project Cypress by Battelle or project partners Climeworks and Heirloom. Other Federal authorizations will be required. These processes, as well as consultation under the Endangered Species Act and Section 106 of the National Historic Preservation Act, as appropriate, will occur concurrently with the NEPA process. Information and data on historic and cultural resources and threatened and endangered species within the area(s) potentially affected by the proposed action will assist in identifying and evaluating impacts to such resources.

In addition to consultation with the State Historic Preservation Office (SHPO), DOE will also engage in government-to-government Tribal consultation, as appropriate.

Anticipated Federal, State, and local permits or authorizations required for construction and operation of Cypress Southwest (Climeworks) may include:

• Clean Water Act (CWA) Section 404 permit (Individual or Nationwide) from the United States Army Corps of Engineers (USACE) for construction of wastewater and stormwater outfalls in waters of the United States,

• Air Permit from Louisiana Department of Environmental Quality (LDEQ) for construction and operation of emissions sources,

• Louisiana Pollution Discharge Elimination System (LPDES) Permit from LDEQ for discharges of industrial wastewater and stormwater into waters of the State,

• LPDES General Permit No. LAR1000000 from LDEQ for discharges of stormwater from construction activities into waters of the State,

• LPDES General Permit No. LA670000 for hydrostatic test discharges during construction to waters of the State,

• Water Well Notification to the Louisiana Department of Energy and Natural Resources (LDENR) for groundwater well drilling and pumping, and

• Various permits from Calcasieu Parish including Floodplain Development Permit, Stormwater Permit, and Temporary Office Trailer Permit.

Anticipated Federal, State, and local permits or authorizations required for construction and operation of Cypress Northwest (Heirloom) may include:

• CWA Section 404 permit (Individual or Nationwide) from the USACE for construction of wastewater and stormwater outfalls in waters of the United States,

• Louisiana State 401 Water Quality Certification,

• LPDES Permit from LDEQ for discharges of industrial wastewater and stormwater into waters of the State,

• LPDES General Permit No. LAR1000000 from LDEQ for discharges of stormwater from construction activities into waters of the State,

• LPDES General Permit No. LA670000 for hydrostatic test discharges during construction to waters of the State.

Floodplain or Wetland Involvement

Floodplains and wetlands exist in the Project Cypress proposed project area. Therefore, this NOI also serves as a notice of proposed floodplain or wetland action. The EIS will include an assessment of impacts to floodplains and wetlands, and, if required, a floodplain statement of findings in accordance with DOE regulations for compliance with floodplain and wetlands environmental review (10 CFR part 1022).

Schedule for Decision-Making Process

After the draft EIS is completed, DOE will publish a notice of availability (NOA) and request public comments on the draft EIS. DOE currently expects to issue the NOA in June 2025. After the public comment period ends, DOE will review and respond to comments received and will develop the final EIS. DOE currently expects to make the final EIS available to the public in March 2026. A record of decision will be completed no sooner than 30 days after the final EIS is released, in accordance with 40 CFR 1506.10.

Scoping Process

This NOI commences the public scoping process to identify issues and potential alternatives for consideration in the EIS. Throughout the scoping process, Federal agencies, Tribes, State and local governments, and the public have the opportunity to help DOE identify significant resources and issues, reasonable alternatives, mitigation measures, and other pertinent information that DOE should consider in the EIS. DOE will hold public scoping meetings at the times and dates described above under the DATES section. The public will have the opportunity to present comments on the scope of the EIS. DOE representatives will be available to answer questions and provide additional information to meeting attendees. In addition to providing comments at the public scoping meetings, stakeholders may submit written comments as described in the ADDRESSES section.

Comments may be broad in nature or restricted to specific areas of concern, but they should be directly relevant to the NEPA process or potential environmental impacts. The scoping process allows the public and interested parties to shape the EIS impact analysis, focusing on the areas of greatest importance and identifying areas requiring less attention. DOE will consider the comments received on the scope of the EIS during the 45-day scoping period as it prepares the draft EIS.

OCED does not consider anonymous scoping comments. Please include your name and address as part of your scoping comment. All scoping comments, including the names, addresses, and other personally identifiable information included in the comment, will be part of the administrative record. DOE will protect privileged or confidential information that you submit when required by Exemption 4 of the Freedom of Information Act (FOIA), which applies to trade secrets and commercial or financial information that is privileged or confidential. Please label privileged or confidential information “Contains Confidential Information” and consider submitting such information as a separate attachment. Information that is not labeled as privileged or confidential may be regarded by DOE as suitable for public release.

NEPA Cooperating Agencies

The CEQ NEPA regulations specify that cooperating agencies and governments are those with “jurisdiction by law or special expertise.” DOE has invited the U.S. Army Corps of Engineers—Vicksburg District, U.S. Army Corps of Engineers—New Orleans District, and the U.S. Department of Agriculture to participate in the NEPA process as cooperating agencies. The U.S. Department of Agriculture and the USACE—Vicksburg District (the lead Regulatory USACE district) have accepted DOE's invitation to become cooperating agencies.

DOE will provide cooperating agencies with a written summary of expectations for cooperating agencies, including schedules, milestones, responsibilities, scope and detail of cooperating agencies' expected contributions, and availability of pre-decisional information.

Governmental entities that are not cooperating agencies will have opportunities to provide information and comments to DOE during the public input stages of the NEPA process.

Request for Comment on Alternatives and Effects, as Well as on Relevant Information, Studies, or Analyses With Respect to the Proposed Action

DOE requests data, comments, views, information, analysis, alternatives, or suggestions relevant to the proposed action from the public; affected Federal, Tribal, State, and local governments, agencies, and offices; the scientific community; industry; or any other interested party. Specifically, DOE requests information on the following topics:

1. Potential effects that the proposed action could have on biological, physical, socioeconomic, cultural, or other resources.

2. Other potential reasonable alternatives to the proposed action that DOE should consider, including additional or alternative avoidance, minimization, and mitigation measures.

3. Information on other current or planned activities in, or in the vicinity of, the proposed action, that could impact one another or contribute to cumulative impacts.

4. Other information, studies, or analyses relevant to the proposed action and its impacts on the human environment.

To promote informed decision-making, comments should be as specific as possible and should provide as much detail as necessary to meaningfully and fully inform DOE of why the issues raised are important to the agency's review of the proposed action.

The draft EIS will include as an appendix, a summary of issues raised during public scoping that DOE considered in preparing the EIS and comments outside the scope of the analysis.

Signing Authority

This document of the Department of Energy was signed on October 24, 2024, by Kelly Cummins, Acting Director, Office of Clean Energy Demonstrations, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 29, 2024.
Treena V. Garrett,
Federal Register Liaison Officer, U.S. Department of Energy.

[FR Doc. 2024-25499 Filed 10-31-24; 8:45 am]

BILLING CODE 6450-01-P